DEPARTMENT OF COMMERCE

Foreign-Trade Zones Board

[Order No. 2034]

Reorganization of Foreign-Trade Zone 229 Under Alternative Site Framework; Charleston, West Virginia

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the West Virginia Economic Development Authority, grantee of Foreign-Trade Zone 229, submitted an application to the Board (FTZ Docket B-23-2016, docketed on April 22, 2016 and amended on September 27, 2016 and January 18, 2017) for authority to reorganize under the ASF with a service area of the Counties of Boone, Cabell, Calhoun, Clay, Fayette, Jackson, Kanawha, Lincoln, Logan, Mason, Mingo, Putnam, Raleigh, Roane, Wayne, Wirt, Wood and Wyoming, within and adjacent to the Charleston Customs and Border Protection port of entry, and FTZ 229's existing Site 1 would be categorized as a magnet site;

Whereas, notice inviting public comment was given in the Federal Register (81 FR 25374, April 28, 2016) and the application, as amended, has been processed pursuant to the FTZ Act and the Board's regulations; and,

Whereas, the Board adopts the findings and recommendations of the examiner's report, and finds that the requirements of the FTZ Act and the Board's regulations are satisfied (except with regard to the request to exempt Site 1 from sunset limits);

Now, therefore, the Board hereby orders:

The application, as amended, to reorganize FTZ 229 under the ASF is approved, subject to the FTZ Act and the Board's regulations, including Section 400.13, to the Board's standard 2,000-acre activation limit for the zone, and to an ASF sunset provision for magnet sites that would terminate authority for Site 1 if not activated within five years from the month of approval.

Dated: June 14, 2017.
Ronald K. Lorentzen,
Acting Assistant Secretary of Commerce for Enforcement and Compliance, Alternate Chairman, Foreign-Trade Zones Board.

[FR Doc. 2017-13302 Filed 6-23-17; 8:45 am]

BILLING CODE 3510-DS-P